SMALL BUSINESS ADMINISTRATION

[License No. 09/79-0432]

TeleSoft Partners II, SBIC, LP; Notice Seeking Exemption Under Section 312 of the Small Business Investment Act, Conflicts of Interest

Notice is hereby given that TeleSoft Partners II SBIC, L.P., of 1450 Fashion Island Blvd, Suite 610, San Mateo, California 94404, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2001)). TeleSoft Partners II, SBIC, L.P. proposes to provide equity financing to Aarohi Communications, Inc. of 405 River Oaks Parkway, San Jose, California 95134, and to CreekPath Systems, Inc., of 7420 E. Dry Creek Parkway, Suite 100, Longmont, Colorado 80503. The financings are contemplated for general corporate purposes including working capital, product development and marketing.

The financings are brought within the purview of §107.730(a)(1) of the Regulations because TeleSoft Partners II, L.P. and TeleSoft Partners II QP, L.P., Associates of TeleSoft Partners II, SBIC, LP, currently own greater than 10 percent of Aarohi Communications, Inc. and CreekPath Systems, Inc. and therefore each company is considered an Associate TeleSoft Partners II, SBIC, L.P., as defined in §107.50 of the regulations.

Notice is hereby given that any interested person may submit written comments on the transaction to the Associate Administrator for Investment, U.S. Small Business Administration, 409 Third Street, SW, Washington, DC 20416.

Dated: November 24, 2003.
Jeffrey D. Pierson,
Associate Administrator for Investment.

[FR Doc. 03-31520 Filed 12-22-03; 8:45 am]

BILLING CODE 8025-01-P